NUCLEAR REGULATORY COMMISSION

[NRC-2022-0215]

Interim Staff Guidance: Material Compatibility for Non-Light Water Reactors; Correction

AGENCY: Nuclear Regulatory Commission.

ACTION: Final guidance; issuance; correction.

SUMMARY: The U.S. Nuclear Regulatory Commission (NRC) is correcting a notice that was published in the Federal Register (FR) on February 6, 2024, regarding Interim Staff Guidance (ISG) DANU-ISG-2023-01 “Material Compatibility for non-Light Water Reactors.” This action is necessary to correct the NRC Docket ID.

DATES: The correction takes effect on February 16, 2024.

ADDRESSES: Please refer to Docket ID NRC-2022-0215 when contacting the NRC about the availability of information regarding this document. You may obtain publicly available information related to this document using any of the following methods:

• Federal Rulemaking Website: Go to https://www.regulations.gov and search for Docket ID NRC-2022-0215. Address questions about Docket IDs in Regulations.gov to Stacy Schumann; telephone: 301-415-0624; email: Stacy.Schumann@nrc.gov. For technical questions, contact the individuals listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Meg Audrain, telephone: 301-415-2133; email: Margaret.Audrain@nrc.gov and Jordan Hoellman, telephone: 301-415-5481; email: Jordan.Hoellman2@nrc.gov. Both are staff of the Office of Nuclear Reactor Regulation at the U.S. Nuclear Regulatory Commission, Washington, DC 20555-0001.

SUPPLEMENTARY INFORMATION: Correct “NRC-2022-2015” to read “NRC-2022-0215” in the FR published on February 6, 2024, in FR Doc. 2024-02286, page 8065, within the notice document heading; in the second column, ADDRESSES section, first sentence; and within the Federal Rulemaking website bullet, first sentence.

Dated: February 12, 2024.
For the Nuclear Regulatory Commission.
Steven T. Lynch,
Chief, Advanced Reactor Policy Branch, Division of Advanced Reactors and Non-Power Production and Utilization Facilities, Office of Nuclear Reactor Regulation.

[FR Doc. 2024-03203 Filed 2-15-24; 8:45 am]

BILLING CODE 7590-01-P